DEPARTMENT OF TRANSPORTATION

Federal Aviation Administration

14 CFR Part 71

[Docket No. FAA-2017-0223; Airspace Docket No. 17-ANM-9]

RIN 2120-AA66

Amendment of Class D and E Airspace; Casper, WY

AGENCY: Federal Aviation Administration (FAA), DOT.

ACTION: Final rule.

SUMMARY: This action amends Class D airspace, and Class E airspace extending upward from 700 feet or more above the surface, and removes Class E airspace designated as an extension, at Casper/Natrona County International Airport, Casper WY. After a biennial review, the FAA finds this action necessary to accommodate airspace redesign for the safety and management of instrument flight rules (IFR) operations within the National Airspace System. Also, this action updates the airport's name and geographic coordinates for the associated Class D and E airspace areas to reflect the FAA's current aeronautical database.

DATES: Effective 0901 UTC, February 28, 2019. The Director of the Federal Register approves this incorporation by reference action under Title 1 Code of Federal Regulations, part 51, subject to the annual revision of FAA Order 7400.11 and publication of conforming amendments.

ADDRESSES: FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA).

For information on the availability of this material at NARA, call (202) 741-6030, or go to https://www.archives.gov/federal-register/cfr/ibr-locations.html.

FAA Order 7400.11, Airspace Designations and Reporting Points, is published yearly and effective on September 15.

FOR FURTHER INFORMATION CONTACT: Bonnie Malgarini, Federal Aviation Administration, Operations Support Group, Western Service Center, 2200 S 216th Street, Des Moines, WA 98198-6547; telephone (206) 231-2329.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class D and E airspace at Casper/Natrona County International Airport, Casper, WY, in support of IFR operations at the airport.

History

The FAA published a notice of proposed rulemaking in the Federal Register (83 FR 4865; February 2, 2018) for Docket No. FAA-2017-0223 to amend Class D airspace; remove Class E airspace designated as an extension; reduce Class E airspace extending upward from 700 feet above the surface, and remove Class E airspace extending upward from 1,200 feet above the surface, at Casper/Natrona County International Airport, Casper WY. Interested parties were invited to participate in this rulemaking effort by submitting written comments on the proposal to the FAA. One comment was received from the Aircraft Owners and Pilots Association (AOPA).

AOPA stated that the NPRM did not comply with FAA guidance in Order 7400.2, Procedures for Handling Airspace Matters, because a graphic was not included in the docket. Additionally, AOPA encouraged the FAA to follow their guidance in the Order by making the action effective date coincidental to the sectional chart publication date.

The FAA has determined AOPA's comments raised no substantive issues with respect to the proposed changes to the airspace addressed in the NPRM. To the extent the FAA failed to follow its policy guidance reference publishing graphics in the docket and establishing the Class D airspace effective date to match the sectional chart date, we note the following.

With respect to AOPA's comment addressing graphics, FAA Order 74002.L, para 2-3-3.c. requires the official docket to include available graphics. For this airspace action, a graphic was produced and added to the docket on February 15, 2018.

Specific to AOPA's comment regarding the FAA already creating a graphical depiction of new or modified airspace overlaid on a Sectional Chart for quality assurance purposes, this is not correct nor required in all cases. During the airspace reviews, airspace graphics may be created, if deemed necessary, to determine if there are any terrain issues, or if cases are considered complex. However, in many cases when developing an airspace amendment proposal, a graphic is not needed. It was unclear if the graphic AOPA suggested was already created with a sectional chart background was actually the airspace graphic created by the Aeronautical Informational Services office in preparation of publishing the sectional charts. However, that graphic is normally created after the rulemaking determination is published.

With respect to AOPA's comment addressing effective dates, FAA Order 7400.2L, para 2-3-7.a.4. states that, to the extent practicable, Class D airspace area and restricted area rules should become effective on a sectional chart date and that consideration should be given to selecting a sectional chart date that matches a 56-day en route chart cycle date. The FAA does consider publishing Class D airspace amendment effective dates to coincide with the publication of sectional charts, to the extent practicable; however, this consideration is accomplished after the NPRM comment period ends. Substantive comments received to NPRMs, flight safety concerns, management of IFR operations at affected airports, and immediacy of requiring proposed airspace amendments are some of the factors that must be taken into consideration when selecting the appropriate effective date. After considering all factors, the FAA may determine that selecting an effective date that conforms to a 56-day enroute chart cycle date that is not coincidental to sectional chart dates is better for the NAS and users than awaiting the next sectional chart date.

Class D and E airspace designations are published in paragraph 5000, 6002, 6004, and 6005, respectively, of FAA Order 7400.11C, dated August 13, 2018, and effective September 15, 2018, which is incorporated by reference in 14 CFR 71.1. The Class D and E airspace designation listed in this document will be published subsequently in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

This amendment to Title 14, Code of Federal Regulations (14 CFR) part 71 modifies Class D airspace and Class E surface area airspace at Casper/Natrona County International Airport (formerly Natrona County International Airport) to within a 4.9-mile radius (from a 4.3-mile radius) of the airport from the airport 294° bearing clockwise to the airport 193° bearing, and within a 7-mile radius (from a 4.3-mile radius) of the airport from the 193° bearing clockwise to the airport 294° bearing.

This action also removes Class E airspace designated as an extension to Class D or E surface area.

Additionally, Class E airspace extending upward from 700 feet above the surface is reduced to within a 9.5-mile radius of the airport (from a 24-mile radius) from the airport 248° bearing clockwise to the airport 294° bearing, and within a 7-mile radius from the airport 294° bearing clockwise to the airport 004° bearing, with segments extending to 13.5 miles northeast, 10.4 miles east, 16.9 miles southwest. Also, Class E airspace extending upward from 1,200 feet above the surface is removed since it is wholly contained within the larger Casper Class E en route airspace, and duplication is not needed.

This rule also updates the airport's geographic coordinates in the associated Class D and E airspace to reflect the FAA's current aeronautical database. Lastly, this action replaces the outdated term “Airport/Facility Directory” with the term “Chart Supplement” in the Class D and associated Class E airspace legal descriptions. These modifications are necessary for the safety and management of IFR operations at the airport.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018, and effective September 15, 2018, is amended as follows:

Paragraph 5000 Class D Airspace.

* * * * *

ANM WY D Casper, WY [Amended]

Casper/Natrona County International Airport, WY

(Lat. 42°54′21″ N, long. 106°27′49″ W)

That airspace extending upward from the surface to and including 7,800 feet MSL within a 4.9-mile radius of Casper/Natrona County International Airport clockwise from the airport 294° bearing to the airport 193° bearing and within a 7-mile radius of the airport clockwise from the airport 193° bearing to the airport 294° bearing. This Class D airspace area is effective during the specific dates and times established in advance by a Notice to Airmen. The effective date and time will thereafter be continuously published in the Chart Supplement.

Paragraph 6002 Class E Airspace Designated as Surface Areas.

* * * * *

ANM WY E2 Casper, WY [Amended]

Casper/Natrona County International Airport, WY

(Lat. 42°54′21″ N, long. 106°27′49″ W)

That airspace extending upward from the surface within a 4.9-mile radius of Casper/Natrona County International Airport clockwise from the airport 294° bearing to the airport 193° bearing and within a 7-mile radius of the airport clockwise from the airport 193° bearing to the airport 294° bearing. This Class E airspace area is effective during the specific dates and times established in advance by a Notice to Airmen. The effective date and time will thereafter be continuously published in the Chart Supplement.

Paragraph 6004 Class E Airspace Areas Designated as an Extension to a Class D or Class E Surface Area.

* * * * *

ANM WY E4 Casper, WY [Removed]

Paragraph 6005 Class E Airspace Areas Extending Upward From 700 Feet or More Above the Surface of the Earth.

* * * * *

ANM WY E5 Casper, WY [Amended]

Casper/Natrona County International Airport, WY

(Lat. 42°54′21″ N, long. 106°27′49″ W)

That airspace upward from 700 feet above the surface within a 9.5-mile radius of Casper/Natrona County International Airport from the airport 248° bearing clockwise to the airport 294° bearing and within a 7-mile radius of the airport from the airport 294° bearing clockwise to the airport 004° bearing and within 3.9 miles northwest and 4.8 miles southeast of the airport 036° bearing extending from the airport to 13.5 miles northeast of the airport and within 3.6 miles each side of the airport 088° bearing extending from the airport to 10.4 miles east of the airport and within 4.1 miles each side of the airport 223° bearing extending from the airport to 17 miles southwest of the airport.

Issued in Seattle, Washington, on November 30, 2018.
Shawn M. Kozica,
Manager, Operations Support Group, Western Service Center.

[FR Doc. 2018-26802 Filed 12-13-18; 8:45 am]

BILLING CODE 4910-13-P